DEPARTMENT OF ENERGY

Federal Energy Regulatory Commission

[Project No. 2318-002]

Erie Boulevard Hydropower L.P. and Hudson River-Black River Regulating District E.J.West Project, NY; Notice of Meeting Concerning Draft License Conditions for the Conklingville Dam/Great Sacandaga Lake Project

February 28, 2002.

a. Date and Time of Meeting: March 12, 2002, 1 p.m. to 4 p.m.

b. Place: New York State Department of Environmental Conservation, Public Assembly Room 129B, First Floor, 625 Broadway, Albany, New York 12233-0001.

c. FERC Contact: Lee Emery at (202) 219-2779 or lee.emery@ferc.fed.us.

d. Purpose of the Meeting: For the New York State Department of Environmental Conservation (NYSDEC), the Hudson River-Black River Regulating District (District), Erie Boulevard Hydropower L.P.(Erie), and Commission staff to discuss draft license conditions for the Conklingville Dam/Great Sacandaga Lake Project, located at the E.J. West project site.

e. Proposed Agenda:

A. Introduction of participants

B. Discussion of draft license articles

C. Summary of discussion regarding draft license articles

E. Follow-up

f. All local, state, and Federal agencies, Indian Tribes, and interested parties, that are on the service list for the E.J.West Project No. 2318-002, will be allowed to attend this meeting. Participation will be limited to Commission staff, the District, NYSDEC, and Erie. However, other attendees will be allowed to comment at the end of the meeting if time permits.

Magalie R. Salas,
Secretary.

[FR Doc. 02-5293 Filed 3-5-02; 8:45 am]

BILLING CODE 6717-01-P